DEPARTMENT OF HEALTH AND HUMAN SERVICES

Centers for Disease Control and Prevention

[60Day-17-17FB; Docket No. CDC-2016-0113]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Understanding Relationship Dynamics and Conflict Survey.” CDC will use the information collected to ascertain which factors or groups of factors may influence violence perpetration that occurs within adult intimate partner relationships.

DATES: Written comments must be received on or before January 31, 2017.

ADDRESSES: You may submit comments, identified by Docket No. CDC-2016-0113 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Understanding Relationship Dynamics and Conflict Survey—New—National Center for Injury Prevention and Control (NCIPC), Centers for Disease Control and Prevention (CDC).

Background and Brief Description

Intimate partner violence (IPV) is a substantial public health problem in the United States. Over a third of women and over a quarter of men have experienced rape, physical violence, and/or stalking by an intimate partner. Recognition of the importance and prevalence of this issue has fueled research to examine the causes, correlates, and outcomes of IPV over the past several decades. However, studies across various IPV research domains (e.g., etiology, prevention efficacy and intervention effectiveness) tend to view IPV as an isolated occurrence and rarely consider the contextual situation in which IPV occurs. For example, existing models may not distinguish between an act of physical violence perpetrated during an argument from an act of physical violence perpetrated as a constellation of physical, sexual, and psychological violence by one partner toward another for the purpose of dominating and controlling that partner.

To that end, we need more information about the factors or groups of factors that influence violence perpetration within adult intimate partner relationships. This project will take a critical first step by collecting information from adults in the United States about their attitudes, perceptions, beliefs and experiences with violence in intimate relationships. In the future, this information can help develop a standardized measurement scheme that will distinguish among different contextual forms of IPV perpetration so that effective violence prevention strategies can be targeted and implemented.

The respondent universe consists of 2,210 adults (18 years or older) from two populations: The general population who live in the United States and incarcerated individuals who live in Indiana. Half of the incarcerated group will have an IPV-related offense record and half will not. Data will be collected through an online survey of Mechanical Turk (MT) workers and an in-person survey of incarcerated individuals. Data analysis will include a combination of Factor Analysis and Latent Profile Analysis.

CDC will seek a two-year approval from the Office of for this new collection. There are no cost to respondents other than their time spent responding to the survey/screener.

Estimated Annualized Burden Hours
Type of respondents | Form name | Number of respondents | Number of responses per respondent | Response burden (hours) | Total burden hours
Mechanical Turk Survey Respondents | Screener | 4,300 | 1 | 5/60 | 358
Mechanical Turk Survey Respondents | Understanding Relationship Dynamics and Conflict | 1,000 | 1 | 1 | 1,000
Incarcerated Survey Respondents | Understanding Relationship Dynamics and Conflict | 105 | 1 | 75/60 | 131
Total |  |  |  |  | 1,489

Leroy A. Richardson,
Chief, Information Collection Review Office, Office of Scientific Integrity, Office of the Associate Director for Science, Office of the Director, Centers for Disease Control and Prevention.

[FR Doc. 2016-28899 Filed 12-1-16; 8:45 am]

BILLING CODE 4163-18-P